NUCLEAR REGULATORY COMMISSION

[NRC-2011-0013]

Proposed Generic Communications; Draft NRC Regulatory Issue Summary 2011-XX, Adequacy of Station Electric Distribution System Voltages; Reopening of Public Comment Period

AGENCY: Nuclear Regulatory Commission.

ACTION: Reopening of public comment period.

SUMMARY: This notice revises a notice published on January 18, 2011, in the Federal Register (76 FR 2924), which announced, in part, that the public comment period for the U.S. Nuclear Regulatory Commission's (NRC's) Draft Regulatory Issue Summary 2011-XX, Adequacy of Station Electric Distribution System Voltages, closes on February 17, 2011. The purpose of this notice is to reopen the public comment period on the Draft RIS for an additional 30 days to allow more time for industry to assemble comments.

DATES: Comment period expires on March 19, 2011. Comments submitted after this date will be considered if it is practical to do so, but assurance of consideration cannot be given except for comments received on or before this date.

ADDRESSES: You may submit comments by any one of the following methods. Please include Docket ID NRC-2011-0013 in the subject line of your comments. Comments submitted in writing or in electronic form will be posted on the NRC Web site and on the Federal Rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0013. Comments may be submitted electronically through this Web site. Address questions about NRC dockets to Carol Gallagher, telephone: 301-492-3668, e-mail: Carol.Gallagher@nrc.gov.

Mail comments to: Cindy Bladey, Chief, Rules, Announcements, and Directives Branch (RADB), Division of Administrative Services, Office of Administration, Mail Stop: TWB-05-B01M, U.S. Nuclear Regulatory Commission, Washington, DC 20555-0001, or by fax to RADB at 301-492-3446.

Availability: Publicly available documents related to this notice can be accessed using any of the methods described in this section.

NRC's Public Document Room (PDR): The public may examine and have copied, for a fee, publicly available documents related to the NFS facility and license renewal at the NRC's PDR, located at One White Flint North, 11555 Rockville Pike, Room O1-F21, Rockville, Maryland 20852-2738. Members of the public can contact the NRC's PDR reference staff by calling 1-800-397-4209, by faxing a request to 301-415-3548, or by e-mail to pdr.resource@nrc.gov.

NRC's Agencywide Documents Access and Management System (ADAMS): Members of the public can access the NRC's ADAMS at http://www.nrc.gov/reading-rm/adams.html. From this Web site, the Draft RIS (ADAMS Accession Number: ML102950322) can be obtained by entering the accession numbers provided.

FOR FURTHER INFORMATION CONTACT: Kenn A Miller, Office of Nuclear Reactor Regulation, Division of Engineer, U.S. Nuclear Regulatory Commission, Washington, DC 20555-0001, telephone: 301-415-3152, e-mail: kenneth.miller2@nrc.gov.

SUPPLEMENTARY INFORMATION: Pursuant to 10 CFR 51.33(a), the NRC staff is making the Draft RIS available for public review and comment. The public comment period is reopened with publication of this notice and continues until March 19, 2011.

Dated at Rockville, Maryland, this 15th day of February, 2011.
For the Nuclear Regulatory Commission.
Roy Mathew,
Acting Branch Chief, Electrical Engineering Branch, Division of Engineering, Office of Nuclear Reactor Regulation.

[FR Doc. 2011-3987 Filed 2-22-11; 8:45 am]

BILLING CODE 7590-01-P